ENVIRONMENTAL PROTECTION AGENCY

[OPP-66297; FRL-6810-1]

Acephate; Receipt of Requests For Amendments to Delete Uses and to Voluntarily Cancel Certain Product Registrations

AGENCY: Environmental Protection Agency (EPA).

ACTION: Notice.

SUMMARY: In accordance with section 6(f)(1) of the Federal Insecticide, Fungicide, and Rodenticide Act (FIFRA), as amended, EPA is issuing a notice of receipt of requests by certain acephate registrants to amend their registrations for products containing O,S-dimethyl acetylphosphoramidothioate, or acephate, to terminate certain uses and voluntarily cancel certain acephate product registrations. The requests to cancel certain uses from the registrations will reduce residential risks which exceed the Agency's level of concern. EPA will decide whether to approve the requests after consideration of public comment.

DATES: Comments on the requested amendments to delete uses and cancel product registrations must be submitted to the contact person at the address provided under FOR FURTHER INFORMATION CONTACT by December 28, 2001.

FOR FURTHER INFORMATION CONTACT: By mail: Kimberly Nesci Lowe, Special Review and Reregistration Division (7508C), Office of Pesticide Programs, Environmental Protection Agency, 1200 Pennsylvania Ave., NW., Washington, DC 20460; telephone number: (703) 308-8059; e-mail address: Lowe.kimberly@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Additional Information, Including Copies of this Document and Other Related Documents?

You may obtain electronic copies of this document, and certain other related documents that might be available electronically, from the EPA Internet home page at http://www.epa.gov/. To access this document, on the home page select “Laws and Regulations,” “Regulations and Proposed Rules,” and then look up the entry for this document under the “Federal Register—Environmental Documents.” You can also go directly to the Federal Register listings at http://www.epa.gov/fedrgstr/.

II. Acephate Registrant Requests to Amend Registrations

A. Background Information

Acephate is an organophosphate insecticide registered to control certain insect pests on a variety of field, fruit, and vegetable crops; in food handling establishments; on ornamental plants both in greenhouses and outdoors; and on turfgrass sites, including residential lawns, golf courses, sod farms, and industrial sites. Acephate is also registered for use in and around the home to control common household insect pests.

Annual domestic use is approximately 4 to 5 million pounds of acephate active ingredient per year. The vast majority of acephate usage is on agricultural and commercial ornamental plant use sites. Use in and around the home is a small fraction of total acephate usage. Acephate use in the home and on lawns is apparently somewhat self-limiting due to the pesticide's objectionable odor.

During development of the Interim Reregistration Eligibility Decision (IRED), EPA identified risk concerns for residents, including children, who contact treated surfaces in homes following indoor application. EPA also identified a risk of concern for young children playing on treated lawns. In order to address these concerns prior to completion of the IRED, Valent USA Corporation (Valent) and the other technical registrants notified EPA of their intent to formally request amendment of their registrations to delete these uses.

EPA will soon release the IRED, which further describes the risks associated with acephate uses in and around the home. The IRED also outlines EPA's other risk concerns and risk management measures adopted in the IRED to address them.

B. Request for Voluntary Cancellation of Certain Uses and Product Registrations

To reduce the risk posed to residents in treated homes and lawns, EPA discussed the matter with all technical acephate registrants and ultimately obtained general agreement on the merits of dropping certain uses. Accordingly, Valent and the other registrants of technical grade acephate products requested the voluntary deletion of the key uses and certain product registrations. End use product registrants also indicated a willingness to drop the same uses.

On October 15, 2001, Valent, the primary technical registrant supporting the reregistration of acephate, submitted a written request to EPA seeking to amend its manufacturing and end use registrations for acephate. Specifically, Valent requested that EPA amend all of its registered products to delete the use of acephate on residential indoor and turfgrass sites (except golf courses, sod farms, and spot or mound treatment for harvester and fire ant control). The use deletions request involves seven FIFRA section 3 registrations held by Valent. Valent also requested the voluntary cancellation of one section 3 manufacturing use registration and eight Special Local Need registrations under FIFRA section 24(c). The cancellations were conditioned on EPA granting certain existing stock provisions. Valent also requested that EPA waive any applicable 180-day comment period for EPA action on its requests.

During October 2001, nearly identical use deletion requests were received from the other three technical registrants: Drexel Chemical Company, United Phosphorus, Inc., and Micro Flo Company LLC. Furthermore, the remaining end use product registrants made similar use deletion requests, including Whitmire Micro-Gen Research Labs, The Scotts Company, and Pursell Technologies, Inc.

For the purposes of these proposed use deletions, the Agency is using the definition at 40 CFR 152.3(u) for the “residential use” part of the site description. Residential indoor sites refers to all “residential use” sites that are indoors. Also, the “turfgrass” use deletion refers to any turfgrass use site, unless the specific turf use site or pest is excepted as described in this notice.Thus, turfgrass use directions on revised labeling would be limited to golf course, sod farm, and spot or mound treatment for harvester or fire ant control.

Under section 6(f)(1)(A) of FIFRA, registrants may request, at any time, that their pesticide registrations be amended to delete one or more pesticide uses. Section 6(f)(1)(B) of FIFRA requires that EPA provide a 30-day comment period on the request for voluntary cancellation. In addition, section 6(f)(1)(C) of FIFRA requires that EPA provide a 180-day comment period on a request for voluntary termination of any minor agricultural use before granting the request, unless: (1) The registrants request a waiver of the comment period, or (2) the Administrator determines that continued use of the pesticide would pose an unreasonable adverse effect on the environment. The registrants have requested that EPA waive the 180-day comment period. In light of this request, EPA is granting the request to waive the 180-day comment period.

Table 1 specifies the time frame for the use deletions and proposed existing stocks provision for manufacturing use products, as requested by the technical registrants. In addition to conditions specified in Table 1, registrants may continue formulating acephate products from manufacturing use products labeled with deleted uses into end use products labeled exclusively for non-deleted uses, provided the other time frames in Table 1 are followed. Such formulation may continue until registrant supplies are exhausted.

Table 1.—Manufacturing Use Products: Time Frame for Use Deletions and Proposed Existing Stocks Provision
Product Registration Number | Date of Use Deletion Request | Effective Date of Use Deletions | Last Date for Use of Existing Stocks to Formulate End Use Products with Deleted Uses: Indoor Residential | Last Date for Use of Existing Stocks to Formulate End Use Products with Deleted Uses: Turfgrass¹ | Last Date for Sale and Distribution of Existing Stocks by the Registrant
19713-410 | 10-16-01 | 12-31-01 | 12-31-01 | 10-31-02 | 12-31-01
51036-246 | 10-03-01 | 12-31-01 | 12-31-01 | 10-31-02 | 12-31-01
59639-41 | 10-15-01 | 12-31-01 | 12-31-01 | 10-31-02 | 12-31-01
70506-3 | 10-15-01 | 12-31-01 | 12-31-01 | 10-31-02 | 12-31-01
¹Except products labeled for turfgrass on golf courses, sod farms, and/or spot or mound treatment for harvester and fire ant control (unless otherwise specified).

Table 2 specifies the time frame for the use deletions and proposed existing stocks provision for affected end use products, as requested by end use registrants. The conditions described in this table pertain to the end use registrants of acephate. (N/A in Tables 2 and 3 means “not applicable.”)

Table 2.—End Use Products: Time Frame for Use Deletions and Proposed Existing Stocks Provision
Product Registration Number | Date of Use Deletion Request | Effective Date of Use Deletions: Indoor Residential | Effective Date of Use Deletions: Turfgrass¹ | Last Date for Sale and Distribution of Existing Stocks by the Registrant
239-2406 | 10-17-01 | N/A | 10-31-02 | 12-31-02
239-2436 | 10-19-01 | N/A | 10-31-02² | 12-31-02
239-2440 | 10-17-01 | 12-31-01 | N/A | 12-31-02
239-2461 | 10-17-01 | N/A | 10-31-02² | 12-31-02
239-2632 | 10-17-01 | N/A | 10-31-02 | 12-31-02
499-373 | 10-15-01 | 12-31-01 | N/A | 12-31-02
19713-495 | 10-16-01 | 12-31-01 | N/A | 12-31-02
19713-497 | 10-16-01 | N/A | 10-31-02 | 12-31-02
51036-236 | 10-03-01 | N/A | 10-31-02 | 12-31-02
51036-252 | 10-03-01 | N/A | 10-31-02 | 12-31-02
51036-237 | 10-03-01 | 12-31-01 | N/A | 12-31-02
51036-337 | 10-03-01 | N/A | 10-31-02 | 12-31-02
59639-26 | 10-15-01 | N/A | 10-31-02 | 12-31-02
59639-28 | 10-15-01 | N/A | 10-31-02 | 12-31-02
59639-31 | 10-15-01 | 12-31-01 | N/A | 12-31-02
59639-33 | 10-15-01 | N/A | 10-31-02 | 12-31-02
59639-87 | 10-15-01 | N/A | 10-31-02 | 12-31-02
59639-91 | 10-15-01 | N/A | 10-31-02 | 12-31-02
70506-1 | 10-15-01 | N/A | 10-31-02² | 12-31-02
73614-1 | 10-17-01 | N/A | 10-31-02 | 12-31-02
¹Except products labeled for turfgrass on golf courses, sod farms, and/or spot or mound treatment for harvester and fire ant control (unless otherwise specified).
²Exception for harvester ant control on turfgrass does not apply.

As previously mentioned, this notice also announces receipt by the Agency on October 15, 2001, of a request from Valent USA Corporation, 1333 N. California Blvd., Ste. 600, Walnut Creek, CA 94596 to cancel nine acephate products registered under section 3 or 24(c) of FIFRA. These registrations are listed in the following Table 3. Canceled products containing deleted uses will be subject to the same time frames and proposed existing stocks provisions given for manufacturing use products and end use products listed in Tables 1 and 2, respectively.

Table 3.—Acephate Registrations With Pending Requests for Cancellation
Product Registration Number | Product Name | Parent Section 3 Registration Number
59639-42 | Valent Orthene MFG | N/A
AL960001 | Pinpoint 15 Granular | 59639-87
FL890016 | Orthene Turf, Tree and Ornamental Spray | 59639-26
FL960007 | Pinpoint 15 Granular | 59639-87
GA970002 | Pinpoint 15 Granular | 59639-87
LA950011 | Pinpoint 15 Granular | 59639-87
MS960016 | Pinpoint 15 Granular | 59639-87
SC960001 | Pinpoint 15 Granular | 59639-87
TX960011 | Pinpoint 15 Granular | 59639-87

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked before December 28, 2001. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Proposed Existing Stocks Provision

Pursuant to section 6(f) of FIFRA, EPA proposes to grant the requests for voluntary amendment and cancellation during the appropriate time frames identified in Tables 1 and 2. For purposes of the cancellation order that the Agency proposes to issue at the close of the comment period for this announcement, the term “existing stocks” will be defined, pursuant to EPA's Existing Stocks Policy published in the Federal Register of June 26, 1991 (56 FR 29362), as those stocks of a registered pesticide product which are currently in the United States and which have been packaged, labeled, and released for shipment prior to the effective date of the amendment or cancellation. Any distribution, sale, or use of existing stocks after the effective date of the cancellation order that the Agency intends to issue that is not consistent with the terms of that order will be considered a violation of section 12(a)(2)(K) and/or 12(a)(1)(A) of FIFRA.

A. Distribution, Sale, and Use of Products with Deleted Uses by Registrants

If the requested use deletions are approved, the distribution, sale, or use of such stocks by the registrants of acephate products will not be lawful under FIFRA after the sale, distribution, and use dates listed in Tables 1 and 2, except for the purposes of returns and relabeling, shipping such stocks for export consistent with the requirements of section 17 of FIFRA, or for proper disposal.

B. Distribution, Sale, and Use of Products with Deleted Uses by Persons Other than Registrants

If the requested use deletions are approved, retailers, distributors, and end-users may sell, distribute, or use end-use products with previously approved labeling which have been released for shipment until such supplies are exhausted, as presented in Table 2.

C. Distribution, Sale, and Use of Canceled Products

If the requested voluntary product cancellations are approved, the effective date of cancellation will be the date of the cancellation order, which is projected to be December 31, 2001. The orders effecting these requested cancellations will generally permit a registrant to sell or distribute existing stocks for 1 year after the date the cancellation request was received by the Agency. In this case, registrants will also be subject to the time frames and proposed existing stocks provisions for products with deleted uses described above, as appropriate. Unless the provisions of an earlier order apply, existing stocks already in the hands of dealers or users can be distributed, sold or used legally until they are exhausted, provided that such further sale and use comply with the EPA-approved label and labeling of the affected product(s).

List of Subjects

Environmental protection, Pesticides and pests.

Dated: November 13, 2001.
Lois A. Rossi,
Director, Special Review and Reregistration Division, Office of Pesticide Programs.

[FR Doc. 01-29556 Filed 11-27-01; 8:45 am]

BILLING CODE 6560-50-S